OVERSEAS PRIVATE INVESTMENT CORPORATION

Sunshine Act Meeting Notice

TIME AND DATE: Thursday, June 15, 2017, 2 p.m. (OPEN Portion); 2:15 p.m. (CLOSED Portion).

PLACE: Offices of the Corporation, Twelfth Floor Board Room, 1100 New York Avenue NW., Washington, DC.

STATUS: Meeting OPEN to the Public from 2 p.m. to 2:15 p.m. Closed portion will commence at 2:15 p.m. (approx.)

MATTERS TO BE CONSIDERED:

1. President's Report

2. Minutes of the Open Session of the March 16, 2017 Board of Directors Meeting

FURTHER MATTERS TO BE CONSIDERED (Closed to the Public 2:15 p.m.):

1. Finance Project—India

2. Finance Project—Colombia

3. Finance Project—Colombia

4. Finance Project—Indonesia

5. Minutes of the Closed Session of the March 16, 2017 Board of Directors Meeting

6. Reports and Budget

7. Pending Projects

CONTACT PERSON FOR MORE INFORMATION: Information on the meeting may be obtained from Catherine F.I. Andrade at (202) 336-8768, or via email at Catherine.Andrade@opic.gov.

Dated: May 24, 2017.
Catherine F.I. Andrade,
Corporate Secretary, Overseas Private Investment Corporation.

[FR Doc. 2017-11109 Filed 5-24-17; 4:15 pm]

BILLING CODE 3210-01-P